ENVIRONMENTAL PROTECTION AGENCY

[AMS-FRL-7605-7]

California State Motor Vehicle Pollution Control Standards; Within the Scope Requests; Opportunity for Public Hearing and Comment

AGENCY: Environmental Protection Agency (EPA).

ACTION: Notice of opportunity for public hearing and public comment.

SUMMARY: The California Air Resources Board (CARB) has notified EPA that it has approved amendments to its regulations establishing certification requirements and procedures for heavy-duty diesel engines and vehicles. The amendments require heavy-duty engines and vehicles (except urban buses) to meet a new mandatory oxides of nitrogen (NOX) standard in 1998 and subsequent model years and establish optional NOX standards beginning with the 1995 model year. CARB's amendments also provide a new definition of useful life for these vehicles and require new information within California's motor vehicle emission control label. CARB requests that EPA confirm CARB's finding that its amendments are within-the-scope of previous waivers issued by EPA under section 209(b) of the Clean Air Act (Act), 42 U.S.C. 7543(b), including a waiver of Federal preemption for California's heavy-duty diesel powered engines and vehicles, which EPA approved on March 4, 1988.

CARB has also notified EPA that it has approved amendments to its regulations establishing certification requirements and procedures for heavy-duty diesel engines and vehicles defined as urban buses. These amendments update the emission standards for particulate matter (PM) and NOX for urban buses and align California's PM standards with Federal standards for such engines in the 1994 and 1995 model years. These amendments also align California PM standards with the Federal PM standard for 1996 and later model years and California's NOX standard with Federal standards starting in the 1996 model year. The amendments also provide for an optional, more stringent, NOX emission standard beginning with the 1994 model year. CARB's amendments also provide a new definition of useful life for these vehicles and require new information within California's motor vehicle emission control label. CARB requests that EPA confirm CARB's finding that its amendments are within-the-scope of previous waivers issued by EPA under section 209(b) of the Clean Air Act (Act), 42 U.S.C. 7543(b), including a waiver of Federal preemption for California's heavy-duty diesel powered engines and vehicles, which EPA approved on March 4, 1988.

DATES: EPA has tentatively scheduled a public hearing for January 30, 2004, beginning at 10 a.m. EPA will hold a hearing only if a party notifies EPA by January 15, 2004, expressing its interest in presenting oral testimony regarding CARB's requests or other issues noted in this notice. By January 20, 2004, any person who plans to attend the hearing should call David Dickinson of EPA's Certification and Compliance Division at (202) 343-9256 to learn if we will hold a hearing. Any party may submit written comments by January 30, 2004.

ADDRESSES: EPA will make available for public inspection at the Air and Radiation Docket written comments received from interested parties, in addition to any testimony given at the public hearing. The official public docket is the collection of materials that is available for public viewing at the Air and Radiation Docket in the EPA Docket Center, (EPA/DC) EPA West, Room B102, 1301 Constitution Ave., NW., Washington, DC. The EPA Docket Center Public Reading Room is open from 8:30 to 4:30 p.m., Monday through Friday, excluding legal holidays. The telephone number for the Public Reading Room is (202) 566-1744, and the telephone number for the Air and Radiation Docket is (202) 566-1743. The reference numbers for these dockets are A-2000-45 and A-2002-16. Parties wishing to present oral testimony at the public hearing(s) should provide written notice to David Dickinson at the address noted below; parties should also submit any written comments to David Dickinson. If EPA receives a request for a public hearing, EPA will hold the public hearing at 1310 L St., NW., Washington, DC 20005.

FOR FURTHER INFORMATION CONTACT: David Dickinson, Certification and Compliance Division (6405J), U.S. Environmental Protection Agency, 1200 Pennsylvania Ave., NW., Washington, DC 20460. Telephone: (202) 343-9256, Fax: (202) 342-2804, e-mail address: Dickinson.David@EPA.GOV.

EPA makes available an electronic copy of this notice on the Office of Transportation and Air Quality's (OTAQ's) homepage (http://www.epa.gov/otaq/). Users can find this document by accessing the OTAQ homepage and looking at the path entitled “Regulations.” This service is free of charge, except any cost you already incur for Internet connectivity. Users can also get the official Federal Register version of the notice on the day of publication on the primary Web site: (http://www.epa.gov/docs/fedrgstr/EPA-AIR/).

Please note that due to differences between the software used to develop the documents and the software into which the documents may be downloaded, changes in format, page length, etc., may occur. Parties wishing to present oral testimony at the public hearing should provide written notice to David Dickinson at: U.S. Environmental Protection Agency, 1200 Pennsylvania Ave., NW., (6405J), Washington, DC 20460. Telephone: (202) 343-9256. If EPA receives request for a public hearing, the public hearing will be held

SUPPLEMENTARY INFORMATION:

I. Background

Section 209(a) of the Clean Air Act, as amended (“Act”), 42 U.S.C. 7543(a), provides:

No State or any political subdivision thereof shall adopt or attempt to enforce any standard relating to the control of emissions from new motor vehicles or new motor vehicle engines subject to this part. No State shall require certification, inspection or any other approval relating to the control of emissions from any new motor vehicle or new motor vehicle engine as condition precedent to the initial retail sale, titling (if any), or registration of such motor vehicle, motor vehicle engine, or equipment.

Section 209(b)(1) of the Act requires the Administrator, after notice and opportunity for public hearing, to waive application of the prohibitions of section 209(a) for any State that has adopted standards (other than crankcase emission standards) for the control of emissions from new motor vehicles or new motor vehicle engines prior to March 30, 1966, if the State determines that the State standards will be, in the aggregate, at least as protective of public health and welfare as applicable Federal standards. The Administrator must grant a waiver unless he finds that (A) the determination of the State is arbitrary and capricious, (B) the State does not need the State standards to meet compelling and extraordinary conditions, or (C) the State standards and accompanying enforcement procedures are not consistent with section 202(a) of the Act.

CARB submitted a February 27, 1997 letter to the Administrator notifying EPA that it had adopted amendments to its heavy-duty diesel powered vehicles and engines program. These amendments provide for: (1) A mandatory 4.0g/bhp-hr NOX standard for heavy-duty engines and vehicles for the 1998 and subsequent model years which parallels EPA's adoption of this standard; (2) optional, lower NOX emission standards beginning with the 1995 model year; (3) changing the “useful life” definition for heavy-duty engines and vehicles under Title 13, California Code of Regulations, section 2112, by extending the period of “useful life” from eight to ten years while maintaining the applicable, alternative mileage provisions that range from 110,000 miles to 290,000 miles (whichever occurs first); and (4) implementing new requirements for the California Motor Vehicle Emission Control Label Specifications in order to identify those engines which are certified to the optional, lower emission standards.

CARB asserts, and requests that the Administrator determine, that its NOX emission standards and useful life definition fall within-the-scope of EPA's previously granted waiver, and thereby may be deemed to meet the requirements of section 209(b) of the Act set forth above.

CARB also submitted a December 26, 1995 letter to the Administrator notifying EPA that it had adopted amendments to its standards for heavy-duty diesel powered vehicles and engines defined as urban buses. These amendments provide for: (1) An alignment of California's PM standards (0.07 g/bhp-hr) with Federal standards for such engines in the 1994 and 1995 model years and with the Federal PM standard (0.05 g/bhp-hr with a 0.07 g/bhp-hr in-use standard) used in 1996 and later model years; (2) a NOX standard (4.0g/bhp-hr) starting in the 1996 model year for urban buses; (3) adoption of the Federal urban bus definition; (4) an exemption from the 4.0 g/bhp-hr NOX standard for up to 10 percent of urban bus sales for model years 1996 and 1997; (5) an allowance to use California diesel fuel for certifying 1996 and 1997 model year urban buses and in 1998 and thereafter the applicable Federal test fuel; (6) an optional, lower NOX emission standards beginning with the 1994 model year; (7) changing the “useful life” definition for 1994 and later urban buses from eight to ten years while maintaining the alternative mileage provision at 290,000 miles (whichever occurs first); and (8) implementing new requirements for the California Motor Vehicle Emission Control Label Specifications in order to identify those engines which are certified to the optional emission standards.

CARB asserts, and requests that the Administrator determine, that its NOX and PM emission standards and useful life definition fall within-the-scope of EPA's previously granted waiver, and thereby may be deemed to meet the requirements of section 209(b) of the Act set forth above.

EPA has decided in the past that when California's amendments: (1) Do not undermine the previous determination that California's standards, in the aggregate, are at least as protective of public health and welfare as comparable Federal standards; (2) do not affect the consistency of California's requirements with section 202(a) of the Act; and (3) raise no new issues affecting EPA's previous waiver determinations, that EPA's concurrence that the amendments are within-the-scope of a previous waiver determination is merited.

When EPA receives new waiver requests from CARB, EPA publishes a notice of opportunity for public hearing and comment and then publishes a decision in the Federal Register following the public comment period. In contrast, when EPA receives within-the-scope waiver requests from CARB, EPA traditionally publishes a decision in the Federal Register and concurrently invites public comment if an interested party is opposed to EPA's decision.

EPA invites comment on the following issues before making a determination for CARB's within-the-scope requests: (1) Should EPA consider CARB's requests as within-the-scope of a previous waiver request or should they be considered and examined as new waiver requests? (2) If EPA were to consider CARB's requests as within-the-scope requests then do California's respective amendments (a) undermine California's previous determinations that its standards, in the aggregate, are at least as protective of public health and welfare as comparable Federal standards, (b) affect the consistency of California's requirements with section 202(a) of the Act, and (c) raise new issues affecting EPA's previous waiver determinations? (3) If EPA were to consider CARB's requests as new waiver requests, then provide comment on (a) whether California's determinations that its standards are at least as protective of public health and welfare as applicable Federal standards is arbitrary and capricious, (b) whether California needs separate standards to meet compelling and extraordinary conditions, and (c) whether California's standards and accompanying enforcement procedures are consistent with section 202(a) of the Act.

II. Procedures for Public Participation

If a public hearing is held, any party desiring to make an oral statement on the record should file ten (10) copies of its proposed testimony and other relevant material with David Dickinson at the address listed above no later than January 28, 2004. In addition, the party should submit 25 copies, if feasible, of the planned statement to the presiding officer at the time of the hearing.

In recognition that a public hearing is designed to give interested parties an opportunity to participate in this proceeding, there are no adverse parties as such. Statements by participants will not be subject to cross-examination by other participants with special approval by the presiding officer. The presiding officer is authorized to strike from the record statements that he or she deems irrelevant or repetitious and to impose reasonable time limits on the duration of the statement of any participant.

If a hearing is held, the Agency will make a verbatim record of the proceedings. Interested parties may arrange with the reporter at the hearing to obtain a copy of the transcript at their own expense. Regardless of whether a public hearing is held, EPA will keep the record open until March 1, 2004. Upon expiration of the comment period, the Administrator will render a decision on CARB's request based on the record of the public hearing, if any, relevant written submissions, and other information that he deems pertinent.

Persons with comments containing proprietary information must distinguish such information from other comments to the greatest possible extent and label it as “Confidential Business Information” (CBI). If a person making comments wants EPA to base its decision in part on a submission labeled CBI, then a nonconfidential version of the document that summarizes the key data or information should be submitted for the public docket. To ensure that proprietary information is not inadvertently placed in the docket, submissions containing such information should be sent directly to the contact person listed above and not to the public docket. Information covered by a claim of confidentiality will be disclosed by EPA only to the extent allowed and by the procedures set forth in 40 CFR part 2. If no claim of confidentiality accompanies the submission when EPA receives it, EPA will make it available to the public without further notice to the person making comments.

Dated: December 19, 2003.
Robert Brenner,
Acting Assistant Administrator for Office of Air and Radiation.

[FR Doc. 03-32208 Filed 12-30-03; 8:45 am]

BILLING CODE 6560-50-P